DEPARTMENT OF TRANSPORTATION

Federal Highway Administration

Environmental Impact Statement: Los Angeles County, CA

AGENCY: Federal Highway Administration (FHWA), DOT.

ACTION: Notice of intent.

SUMMARY: The FHWA is issuing this notice to advise the public that an environmental impact statement (EIS) will be prepared for the proposed 1st Street Bridge Widening and Road Realignment project in the city and county of Los Angeles, California in accordance with the National Environmental Policy Act of 1969 (NEPA).

FOR FURTHER INFORMATION CONTACT: Cesar Perez, Senior Transportation Engineer, Federal Highway Administration, 980 Ninth St., Suite 400, Sacramento, CA, Telephone: (916) 498-5860.

SUPPLEMENTARY INFORMATION: The FHWA, in cooperation with Caltrans, will prepare an EIS on a proposal to widen the 1st Street Bridge and realign 1st Street in the city and county of Los Angeles, California. The proposed improvements would involve construction over the Los Angeles River between Vignes Street and Clarence Street for a distance of approximately 1.25 miles (1.6 kilometers).

The study will determine the type of facility required to meet the transportation needs of this traffic corridor. Existing and proposed industrial, commercial and residential development along the 1st Street corridor is expected to induce traffic demand in excess of the capacity of the existing east-west transportation corridor. The proposed EIS will discuss the sufficiency rating of the bridge in terms of its functional serviceability and the realignment 1st Street to accommodate construction of the Metropolitan Transportation Authority (MTA) Los Angeles Eastside Corridor Light Rail Transit (LRT) line in the median, while maintaining the existing four traffic lanes and adding shoulders on the bridge. Also included in the proposal is the realignment and lowering of local streets at Santa Fe Avenue and Myers Street meet vertical and horizontal clearance requirements. Alternatives under consideration include (1) no-build; (20 widen bridge on the north side; and (3) construct a separate structure on the north side of existing bridge.

The public information program and project development team meetings will continue throughout the design and environmental process. There will be ongoing project development team meetings that involve concerned parties such as the city of Los Angeles and the Metropolitan Transportation Agency (MTA). The draft EIS will be available for public and agency review and comment. A public hearing will be held to discuss alternatives and impacts of the proposed action. Public notice will given for the time and place of the public hearing. To ensure that the full range of issues related to this proposed action are addressed and all significant concerns are identified, comments and are invited from all interested parties. Comments or questions about this proposed action and the EIS should be directed to FHWA at the address indicated herein.

(Catalog of Federal Domestic Assistance Program Number 20.205, Highway Planning and construction. The regulations implementing Executive Order 12372 regarding intergovernmental consultation on Federal programs and activities apply to this program.)
Issued: May 30, 2003.
Cesar E. Perez,
Senior Transportation Engineer.

[FR Doc. 03-14137 Filed 6-4-03; 8:45 am]

BILLING CODE 4910-22-M